DEPARTMENT OF ENERGY

Federal Energy Regulatory Commission

[Docket No. OR02-12-000]

Colonial Pipeline Company; Notice of Petition for Declaratory Order

September 18, 2002.

Take notice that on August 28, 2002, pursuant to Rule 207(a)(2) of the Commission's Rules of Practice and Procedure (18 CFR 385.207(a)(2)), Colonial Pipeline Company (Colonial) filed a petition requesting a declaratory order that would enable Colonial to enter into a lease arrangement with Plantation Pipe Line Company (Plantation) to ship greater volumes of petroleum products from the western Gulf Coast of the United States to markets in the Northeast.

Colonial states that it is unable to go forward with this arrangement without advance assurance that the Commission will not entertain requests from shippers from points of origin on Plantation who might seek an order of the Commission pursuant to section 15(3) of the Interstate Commerce Act (ICA) that would force Colonial to establish new or additional routes to destinations on Colonial downstream of Greensboro, North Carolina. Accordingly, Colonial requests a Commission declaration that Colonial will not be ordered to establish through routes with Plantation from Plantation origins to destinations on Colonial in the Northeast on the ground that space leased by Colonial on the Plantation system will be considered to be part of the Colonial common carrier system and will therefore not be considered a “connecting carrier” line; or on the additional or alternative ground that in the particular circumstances described in its petition, such an order would not be in the public interest. In addition, Colonial requests declarations that Colonial will be allowed to remove its connection to Plantation at its sole discretion subject to any contractual obligations it may have, and that Colonial will be permitted to rely on its market-based ratemaking authority for movements on the leased space from Colonial's western Gulf Coast origin markets to its destinations in the Northeast.

Any person desiring to be heard or to protest said filing should file a motion to intervene or a protest with the Federal Energy Regulatory Commission, 888 First Street, NE, Washington, DC 20426, in accordance with Sections 385.214 or 385.211 of the Commission's Rules and Regulations. All such motions or protests must be filed on or before October 11, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-24193 Filed 9-23-02; 8:45 am]

BILLING CODE 6717-01-P